DEPARTMENT OF TRANSPORTATION

Federal Highway Administration

Rescinding the Notice of Intent for a Supplemental Environmental Impact Statement: Lafourche Parish, LA

AGENCY: Federal Highway Administration (FHWA), DOT.

ACTION: Rescind notice of intent.

SUMMARY: The FHWA is issuing this notice to advise the public that effective immediately, we are rescinding a Notice of Intent (NOI) to prepare a Supplemental Environmental Impact Statement (SEIS) for the 2002 LA 1 Final Environmental Impact Statement (FEIS) in Lafourche Parish, LA.

FOR FURTHER INFORMATION CONTACT: Charles Bolinger, Division Administrator, Louisiana Division, Federal Highway Administration, 5304 Flanders Drive, Suite A, Baton Rouge, LA 70808 Telephone: 225.757.7600.

SUPPLEMENTARY INFORMATION: The FHWA, in cooperation with the Louisiana Department of Transportation and Development (LADOTD), issued a NOI on March 15, 2017, to prepare a Supplemental Environmental Impact Statement (SEIS) to study local access modifications and right-of-way impacts to roadway approaches beyond the initial Final Environmental Impact Statement (FEIS) project limits.

The FHWA has determined, in conjunction with LADOTD, the NOI for the SEIS shall be rescinded due to the numerous impacts to traffic and right-of-way beyond the initial project limits identified in the FEIS. The project layout as previously identified in the FEIS will remain as the selected alternative.

Issued on: January 11, 2021.
Charles Bolinger,
Division Administrator, Louisiana Division, Baton Rouge, Louisiana.

[FR Doc. 2021-00683 Filed 1-13-21; 8:45 am]

BILLING CODE 4910-22-P